DEPARTMENT OF ENERGY

Office of Energy Efficiency and Renewable Energy

Finding of No Significant Impact; Energy Efficient Performance Requirements for New Federal Commercial and Residential Buildings

AGENCY: Office of Energy Efficiency and Renewable Energy, Department of Energy.

ACTION: Finding of no significant impact (FONSI).

SUMMARY: The Energy Conservation and Production Act (ECPA), 42 U.S.C. 6831, et seq. requires the Department of Energy (DOE) to establish by rule building energy efficiency standards for all new Federal buildings. (42 U.S.C. 6834(a)(1)) Section 305 of ECPA, as amended by section 109 of the Energy Policy Act of 2005 (Pub. L. No. 109-58), mandates the development of new Federal building energy efficiency standards based on the American National Standards Institute (ANSI)/American Society of Heating, Refrigerating and Air-Conditioning Engineers, Inc. (ASHRAE)/Illuminating Engineering Society of North America (IESNA) ASHRAE/IESNA Standard 90.1-2004 (ASHRAE 2004) (for commercial and high-rise multi-family residential buildings) and the International Code Council (ICC) International Energy Conservation Code 2004 Supplement (2004 IECC) (for low-rise residential buildings). (42 U.S.C. 6834(a)(2)) Federal buildings are required to reduce energy consumption by at least 30 percent, if life cycle cost-effective, over these baseline standards. (42 U.S.C. 6834(a)(3)(A)(i)) Based on an Environmental Assessment (EA), DOE/EA-1463, DOE has determined that the adoption of the new energy efficiency standards “Energy Efficiency Standard for New Federal Commercial and High-Rise Multi-Family Residential Buildings” (10 CFR Part 433) and “Energy Efficiency Standard for New Federal Low-Rise Residential Buildings” (10 CFR Part 435) would not be a major Federal action significantly affecting the quality of the human environment within the meaning of the National Environmental Policy Act (NEPA) of 1969. Therefore, an environmental impact statement (EIS) is not required, and the Department is issuing this finding of no significant impact (FONSI).

ADDRESSES: Copies of the EA and the proposed rule are available from: U.S. Department of Energy, Office of the Federal Energy Management Program, Forrestal Building, Mail Station EE-2L, 1000 Independence Avenue, SW., Washington, DC 20585-0121, (202) 586-5772.

FOR FURTHER INFORMATION CONTACT: Cyrus Nasseri, Office of the Federal Energy Management Program (EE-2L), U.S. Department of Energy, 1000 Independence Avenue, SW., Washington, DC 20585-0121, (202) 586-9138.

For Further Information Regarding the DOE NEPA Process, Contact: Carol Borgstrom, Director, Office of NEPA Policy and Compliance (EH-42), 1000 Independence Avenue, SW., Washington, DC 20585-0119, (202) 586-4600, or leave a message at (800) 472-2756.

SUPPLEMENTARY INFORMATION:

Description of the Proposed Action: The action is the establishment of revised energy efficiency requirements for new Federal commercial and multi-family high rise residential buildings and low-rise residential buildings.

Environmental Impacts: The EA evaluates the environmental impacts of five alternatives to the new standards for the design and construction of new Federal buildings. Each alternative action is presented, and the energy efficiency requirements (and hence the environmental impacts) of each alternative are compared to what would be expected to happen if no new standard were adopted, i.e., the “no action” alternative. In this EA, the “no action” alternative is the standard level under the required efficiency levels of the standards prior to amendment. The EA also examined the projected effects of standard levels mandated under section 305 of ECPA without any additional improvement in energy efficiency, i.e., the level of energy efficiency achieved under ANSI/ASHRAE/IESNA Standard 90.1-2004 (for commercial and high-rise multi-family residential buildings) or the 2004 IECC (for low-rise residential buildings). Levels of 10 percent, 20 percent, 30 percent, 40 percent and 50 percent energy savings over the minimum requirements are examined as alternatives that might be achieved by agencies attempting to meet the “at least 30 percent savings, if life-cycle cost-effective” provision of the requirements.

The EA also examines the environmental impacts of the final rule on building habitability (indoor environment, focusing on possible alterations to indoor air quality) and the outdoor environment (emissions of criteria pollutants and greenhouse gases). The EA finds that implementation of the final rule would not impact building habitability (indoor air) as no change to mechanical ventilation rates or building envelope that would affect indoor air quality are being made. The EA also finds that implementation of this rule would not adversely affect minority or low-income populations, nor is the rule expected to impact wetlands, endangered species, or historic or archaeological sites.

The purpose of the final rule is to improve energy efficiency. The main environmental impact of the final rule is a reduction in emissions to the outdoor air from fossil-fueled electricity generation. The alternatives are projected to result in decreased electricity use and, therefore, a reduction in power plant emissions. The environmental analysis focuses on two criteria pollutants, nitrogen oxides (NOX) and sulfur dioxide (SO2), and one additional emission, carbon.

For commercial and high-rise multi-family residential buildings, at the 30 percent reduction level, carbon dioxide emissions are estimated to be reduced by 38,500 metric tons of carbon in the first year the rule is in effect, with the savings compounding in future years as more Federal construction occurs. Nitrogen oxides and sulfur dioxide emissions are estimated to be reduced by 317 and 625 tons, respectively, in the first year the rule is in effect.

For low-rise residential buildings, at the 30 percent reduction level, carbon dioxide emissions are estimated to be reduced by 763 metric tons of carbon in the first year the rule is in effect, with the savings compounding in future years as more Federal construction occurs. Nitrogen oxides and sulfur dioxide emissions are estimated be reduced by about 4 tons each in the first year the rule is in effect.

The EA was originally developed based on an interim final rule published on December 3, 2006. DOE received 20 comments on the interim final rule and made minor changes and clarifications in the Final Rule to address these comments. None of the changes or clarifications would lead to any change to the findings of the EA for the interim final rule. The EA was posted on the DOE Web site at (http://www1.eere.energy.gov/femp/pdfs/doe_ea1463.pdf) and received no comments. Therefore, DOE is issuing the EA developed for the interim final rule in support of the final rule.

Determination: Based upon the EA, DOE has determined that the adoption of the new building energy standards (10 CFR part 433 and 10 CFR part 435 subpart A) would not constitute a major Federal action significantly affecting the quality of the human environment, within the meaning of NEPA. Therefore, an EIS is not required.

Issued in Washington, DC, on November 1, 2007.
Alexander A. Karsner,
Assistant Secretary, Energy Efficiency and Renewable Energy.

[FR Doc. E8-324 Filed 1-10-08; 8:45 am]

BILLING CODE 6450-01-P